DEPARTMENT OF TRANSPORTATION

Federal Aviation Administration

Public Notice for Waiver for Aeronautical Land-Use Assurance at Tulsa International Airport, Tulsa, OK

AGENCY: Federal Aviation Administration, DOT.

ACTION: Notice of intent for waiver of aeronautical land-use.

SUMMARY: The Federal Aviation Administration (FAA) is considering a proposal to change a portion of the airport from aeronautical use to nonaeronautical use and to authorize the conversion of the airport property. The proposal consists of two parcels of land containing a total of approximately 120.46 acres located to the northeast and southeast of the intersection of East 36th Street North and North Mingo Road.

These parcels were originally acquired under the following grants: Airport Development Aid Program (ADAP) No. 6-40-0099-15 in 1978; Federal Aid to Airports Program (FAAP) Nos. 9-34-032-C312 in 1962 and 9-34-032-C514 in 1964; portions of these parcels were acquired with non-grant funds. The land comprising these parcels is outside the forecasted need for aviation development and, thus, is no longer needed for indirect or direct aeronautical use. In addition, these parcels have no access to the airfield. The Airport wishes to develop this land for compatible commercial, nonaeronautical use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before August 13, 2012.

ADDRESSES: Send comments on this document to Mr. Edward N. Agnew, Federal Aviation Administration, Arkansas/Oklahoma Airports Development Office Manager, 2601 Meacham Boulevard, Fort Worth, TX 76137.

FOR FURTHER INFORMATION CONTACT: Mr. Jeff Hough, Deputy Airports Director, Tulsa Airport Authority, Post Office Box 581838, Tulsa, OK 74158, telephone (918) 838-5000; or Mr. Edward N. Agnew, Federal Aviation Administration, Arkansas/Oklahoma Airports Development Office Manager, 2601 Meacham Boulevard, Fort Worth, TX 76137, telephone (817) 222-5630, FAX (817) 222-5987. Documents reflecting this FAA action may be reviewed at the above locations.

SUPPLEMENTARY INFORMATION: Following are legal description of the property located in Tulsa County, OK: A tract of land located in the southwest quarter of the southwest quarter of Section 18, T-20-N, R-14-E, Tulsa County, State of Oklahoma, being more particularly described as follows: Commencing at the Southwest corner of Section 18 to wit, thence north along the western line of the southwest quarter 99.329 feet to a point; thence North 88 degrees 56 minutes 04 seconds East 47.76 feet to the point of beginning; thence North 00 degrees 42 minutes 03 seconds West 2,475.9 feet to a point; thence North 88 degrees 30 minutes 01 seconds East 1,244.3 feet to a point; thence South 01 degrees 49 minutes 05 seconds West 2,495.7 feet to a point; thence South 89 degrees 18 minutes 04 seconds West 1,134.49 feet back to the point of beginning; said tract containing 67.827 acres more or less.

A tract of land located in the northwest quarter of the northwest quarter of Section 19, T-20-N, R-14-E, Tulsa County, State of Oklahoma, being more particularly described as follows: Commencing at the northwest corner of Section 19 to wit, thence south along the western line of the northwest quarter 71.924 feet to a point; thence North 88 degrees 56 minutes 04 seconds East 78.15 feet to the point of beginning; thence North 88 degrees 20 minutes 01 seconds East 1,084.5 feet to a point; thence South 01 degrees 49 minutes 05 seconds West 2,211.0 feet to a point; thence South 87 degrees 33 minutes 02 seconds West 987.6 feet to a point; thence North 00 degrees 42 minutes 03 seconds West 2,220.6 feet back to the point of beginning; said tract containing 52.635 acres more or less.

Issued in Fort Worth, Texas on July 3, 2012.
Joseph G. Washington,
Acting Manager, Airports Division.

[FR Doc. 2012-16863 Filed 7-11-12; 8:45 am]

BILLING CODE P